DEPARTMENT OF TRANSPORTATION

Transportation Security Administration

Notice of Intent To Request Renewal From the Office of Management and Budget (OMB) of One Current Public Collection of Information

AGENCY: Transportation Security Administration (TSA), DOT.

ACTION: Notice.

SUMMARY: In compliance with the Paperwork Reduction Act (44 U.S.C. 3501 et seq.), the TSA invites public comment on one currently approved public information collection, which will be submitted to OMB for renewal.

DATES: Comments must be received on or before February 4, 2003.

ADDRESSES: Comments may be mailed or delivered to the TSA at the following address: Office of Security, TSA-14, Transportation Security Administration, 400 7th Street, SW., Washington, DC 20590.

FOR FURTHER INFORMATION CONTACT: Richard Ferris, Office of Security, TSA-14, Transportation Security Administration, 400 7th Street, SW., Washington, DC 20590, (202) 385-1190.

SUPPLEMENTARY INFORMATION: In accordance with the Paperwork Reduction Act of 1995, an agency may not conduct or sponsor, and a person is not required to respond to a collection of information unless it displays a currently valid OMB control number. Therefore, the TSA solicits comments on this current collection of information to evaluate the necessity of the collection; the accuracy of the agency's estimate of the burden; the quality, utility, and clarity of the information to be collected; and possible ways to minimize the burden of the collection. These comments are solicited in preparation for submission to renew the clearance of the following information collection:

1.2110-0007, Employment Standards-Parts 107 and 108 of the Federal Aviation Regulations. Section 105 of Public Law 101-604, the Aviation Security Improvement Act of 1990, directed the FAA to prescribe standards for the hiring, continued employment and contracting of air carrier and appropriate airport security personnel. These standards were developed and implemented at 14 CFR parts 107 and 108. The Aviation and Transportation Security Act of 2001, Public Law 107-71, transferred to TSA the responsibility for civil aviation security, including the prescribing of employment standards for the hiring, continued employment and contracting of air carrier and appropriate airport security personnel. In February 2002, TSA implemented regulations at 49 CFR parts 1542 and 1544 prescribing employment standards and the FAA regulations in 14 CFR parts 107 and 108 were repealed. Airport operators will maintain at their principal business office at least one copy of evidence of compliance with training requirement for all employees having unescorted access privileges to security areas. This is a record-keeping burden and the affected public is estimated at 1,300 airport operators and air carrier checkpoints. The estimated annual record-keeping burden is 16,300 hours.

Issued in Washington, DC, on December 2, 2002.
Susan L. Tracey,
Deputy Chief Administrative Officer.

[FR Doc. 02-30932 Filed 12-5-02; 8:45 am]

BILLING CODE 4910-62-P